DEPARTMENT OF COMMERCE

Performance Review Board Membership

AGENCY: Economics and Statistics Administration, Commerce.

ACTION: Notice.

SUMMARY: Below is a listing of individuals who are eligible to serve on the Performance Review Board (PRB) in accordance with the Economics and Statistics Administration's Senior Executive Service and Senior Professional Performance Management Systems:

William G. Bostic, Jr.,

Arnold A. Jackson,

Theodore A. Johnson,

Steven J. Jost,

J. Steven Landefeld,

Jennifer Madans,

Marilia A. Matos,

Brian E. McGrath,

Thomas L. Mesenbourg, Jr.,

Brian C. Moyer,

Nancy A. Potok,

Katherine K. Wallman.

The term of all new members of the PRB will expire on December 31, 2013.

FOR FURTHER INFORMATION CONTACT: Latasha Ellis, 301-763-3727.

Dated: September 7, 2011.
Kenneth A. Arnold,
Associate Under Secretary for Management, Chair, Performance Review Board.

[FR Doc. 2011-23752 Filed 9-15-11; 8:45 am]

BILLING CODE 3510-BS-P